DEPARTMENT OF HEALTH AND HUMAN SERVICES

Centers for Disease Control and Prevention

[CDC-2018-0024; Docket Number NIOSH-302]

Draft—National Occupational Research Agenda for Respiratory Health; Extension of Comment Period

AGENCY: National Institute for Occupational Safety and Health (NIOSH) of the Centers for Disease Control and Prevention (CDC), Department of Health and Human Services (HHS).

ACTION: Notice and extension of comment period.

SUMMARY: On March 15, 2018 the National Institute for Occupational Safety and Health (NIOSH) of the Centers for Disease Control and Prevention (CDC), published a notice in the Federal Register [83 FR 11537] announcing the availability of a draft NORA Agenda entitled National Occupational Research Agenda for Respiratory Health for public comment. Written comments were to be received by May 14, 2018. In response to a request from an interested party, NIOSH is extending the public comment period to July 13, 2018.

FOR FURTHER INFORMATION CONTACT: Emily Novicki NORACoordinator@cdc.gov), National Institute for Occupational Safety and Health, Centers for Disease Control and Prevention, Mailstop E-20, 1600 Clifton Road NE, Atlanta, GA 30329, phone (404) 498-2581 (not a toll free number).

ADDRESSES: You may submit comments, identified by CDC-2018-0024 and Docket Number NIOSH-302, by either of the following two methods:

• Federal eRulemaking Portal: http://www.regulations.gov Follow the instructions for submitting comments.

• Mail: National Institute for Occupational Safety and Health, NIOSH Docket Office, 1090 Tusculum Avenue, MS C-34, Cincinnati, Ohio 45226-1998.

Dated: April 25, 2018.
Frank J. Hearl,
Chief of Staff, National Institute for Occupational Safety and Health, Centers for Disease Control and Prevention.

[FR Doc. 2018-09442 Filed 5-3-18; 8:45 am]

BILLING CODE 4163-19-P